DEPARTMENT OF COMMERCE

National Oceanic and Atmospheric Administration

50 CFR Part 648

[Docket No. 140106011-4338-02]

RIN 0648-XD357

Fisheries of the Northeastern United States; Northeast Multispecies Fishery; Trip Limit Adjustment and Trimester Total Allowable Catch Area Closure for the Common Pool Fishery

AGENCY: National Marine Fisheries Service (NMFS), National Oceanic and Atmospheric Administration (NOAA), Commerce.

ACTION: Temporary rule; inseason adjustment and area closure.

SUMMARY: This action increases the trip limit for Southern New England/Mid-Atlantic winter flounder for Northeast multispecies common pool vessels for the remainder of the 2014 fishing year and closes the Gulf of Maine Cod Trimester Total Allowable Catch Area for the remainder of Trimester 1, through August 31, 2014. Increasing the trip limit is intended to provide additional fishing opportunities and help allow the common pool fishery to catch its allowable quota for this stock. The closure is required because the common pool fishery has caught more than 90 percent of its Trimester 1 quota for Gulf of Maine cod. This closure is intended to prevent the overharvest of the common pool's allocation this stock.

DATES: The trip limit increase is effective July 23, 2014, through April 30, 2015. The Gulf of Maine Cod Trimester Total Allowable Catch Area closure is effective July 23, 2014, through August 31, 2014.

FOR FURTHER INFORMATION CONTACT: Brett Alger, Fishery Management Specialist, 978-675-2153.

SUPPLEMENTARY INFORMATION: The regulations at § 648.86(o) authorize the Regional Administrator (RA) to adjust the possession limits for common pool vessels in order to prevent the overharvest or underharvest of the common pool quotas. As of July 10, 2014, the common pool had caught 17 percent of its sub-annual catch limit (ACL) of Southern New England/Mid-Atlantic (SNE/MA) winter flounder. To allow the common pool fishery to catch more of its quota for that stock, effective July 23, 2014, the trip limit of SNE/MA winter flounder, defined as winter flounder caught within the Inshore Georges Bank and SNE/MA Broad Stock Areas (as defined in § 648.10(k)(3)(ii) and (iv)), for all common pool vessels, is increased from 1,500 lb (630.4 kg) per day-at-sea (DAS) and 2,000 lb (907.2 kg) per trip, to 3,000 lb (1,361 kg) per DAS and 6,000 lb (2,722 kg) per trip.

The regulations also require the RA to close a Trimester Total Allowable Catch (TAC) Area for a stock when 90 percent of the Trimester TAC is projected to be caught. In such cases, the Trimester TAC Area for a stock closes to all common pool vessels fishing with gear capable of catching that stock for the remainder of the trimester. The fishing year 2014 (May 1, 2014, through April 30, 2015) common pool sub-ACL for Gulf of Maine (GOM) cod is 18.0 mt and the Trimester 1 (May 1, 2014, through August 30, 2014) TAC is 4.9 mt. Based on the most recent data, which include vessel trip reports, dealer reported landings, and vessel monitoring system information, we have determined that 90 percent of the Trimester 1 TAC was caught as of July 12, 2014. Therefore, effective July 23, 2014, the GOM Cod Trimester TAC Area is closed for the remainder of Trimester 1, through August 31, 2014, to all common pool vessels fishing with trawl gear, sink gillnet gear, and longline/hook gear. The area will reopen at the beginning of Trimester 2 on September 1, 2014. Any overages of a trimester TAC will be deducted from Trimester 3, and any overages of the common pool's sub-ACL at the end of the fishing year will be deducted from the common pool's sub-ACL the following fishing year. Any uncaught portion of the Trimester 1 and Trimester 2 TAC will be carried over into the next trimester. Any uncaught portion of the common pool's sub-ACL may not be carried over into the following fishing year.

Weekly quota monitoring reports for the common pool fishery can be found on our Web site at: http://www.nero.noaa.gov/ro/fso/MultiMonReports.htm. We will continue to monitor common pool catch through vessel trip reports, dealer-reported landings, vessel monitoring system catch reports, and other available information and, if necessary, we will make additional adjustments to common pool management measures.

Classification

This action is required by 50 CFR part 648 and is exempt from review under Executive Order 12866.

The Assistant Administrator for Fisheries, NOAA, finds good cause pursuant to 5 U.S.C. 553(b)(B) and 5 U.S.C. 553(d)(3) to waive prior notice and the opportunity for public comment and the 30-day delayed effectiveness period because it would be impracticable and contrary to the public interest.

The regulations at § 648.86(o) authorize the Regional Administrator to adjust the Northeast multispecies trip limits for common pool vessels in order to prevent the overharvest or underharvest of the pertinent common pool sub-ACLs. The catch data used to justify increasing the trip limits for SNE/MA winter flounder only recently became available. The trip limit increase implemented through this action allows for increased harvest of SNE/MA winter flounder, to help ensure that the fishery may achieve the optimum yield (OY) for this stock. As a result, the time necessary to provide for prior notice and comment, and a 30-day delay in effectiveness, would prevent NMFS from increasing the trip limit for SNE/MA winter flounder in a timely manner, which could prevent the fishery from achieving the OY, thereby undermining management objectives of the Northeast Multispecies Fishery Management Plan, and causing negative economic impacts to the common pool fishery. There is additional good cause to waive the delayed effective period because this action relieves restrictions on fishing vessels by increasing a trip limit.

The Trimester TAC Area closure is required by regulation in order to reduce the probability of the common pool fishery exceeding its sub-ACL of GOM cod. Any overages of the common pool's sub-ACLs would undermine conservation objectives and trigger the implementation of accountability measures that would have negative economic impacts on common pool vessels. The time necessary to provide for prior notice and comment, and a 30-day delay in effectiveness, would prevent NMFS from implementing the necessary Trimester TAC Area closure for GOM cod in a timely manner, which could undermine management objectives of the Northeast Multispecies Fishery Management Plan, and cause negative economic impacts to the common pool fishery.

Authority: 16 U.S.C. 1801 et seq.

Dated: July 18, 2014.
Emily H. Menashes,
Acting Director, Office of Sustainable Fisheries, National Marine Fisheries Service.

[FR Doc. 2014-17287 Filed 7-18-14; 11:15 am]

BILLING CODE 3510-22-P